DEPARTMENT OF TRANSPORTATION

Federal Aviation Administration

[Docket No. FAA-2025-0562]

Agency Information Collection Activities: Request for Comments; Clearance of a New Approval of Information Collection: Pilot Medical Disclosure Decision Making Model for Safety Risk Assessment Survey

AGENCY: Federal Aviation Administration (FAA), DOT.

ACTION: Notice and request for comments.

SUMMARY: In accordance with the Paperwork Reduction Act of 1995, FAA invites public comments about our intention to request the approval of the Office of Management and Budget (OMB) for a new information collection. The Federal Register Notice with a 60-day comment period soliciting comments on the following collection of information was published on June 10, 2025. The collection involves a short online survey gathering information on medical disclosure behaviors of working pilots. The information to be collected will be used to update the current safety risk assessments for integration into the Aviation Safety (AVS), Office of Aviation Medicine (AAM) Safety Risk Management process.

The FAA received one comment during the 60-day comment period on the Federal Register. The FAA sincerely thank the Air Line Pilots Association, International (ALPA) for their letter of support and further recommendations for our data collection and study. In the letter, ALPA shared concerns regarding the anonymity of the source, voluntary informed participation, aggregate-only reporting, and response evaluations, which the FAA has recently addressed. We also appreciate ALPA for bringing their concerns of independent oversight and legal data protection to our attention. We will work closely with ALPA representatives to integrate these recommendations throughout our study design. Again, we sincerely thank ALPA for the letter of support and recommendations on the proposed collection of information.

DATES: January 9, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Julia Beckel by email at: Julia.l.beckel@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 21XX-XXXX.

Title: Request for Comments; Clearance of a New Approval of Information Collection: Pilot Medical Disclosure Decision Making Model for Safety Risk Assessment Survey.

Form Numbers: n/a.

Type of Review: Clearance of a new information collection.

Background: The Federal Register Notice with a 60-day comment period soliciting comments on the following collection of information was published on June 10, 2025 (90 FR 24487). The Office of Aerospace Medicine (AVS/AAM) is developing a pilot medical disclosure decision-making model to support current and future safety risk assessments. Following the Mental Health Aviation Rulemaking Committee's recommendation, AVS/AAM and the Office of Safety Standards (AFS) conducted a joint safety risk assessment on pilot medical non-disclosure. The assessment identified the need for a validated model of pilot medical disclosure decision-making to better estimate safety risks.

The survey will consist of approximately 50 questions pertaining to the behavioral and decisions motivation behind medical disclosure. The survey's anticipated completion time is 10-25 minutes. The findings will lead to a final report with a peer-reviewed manuscript submission to a targeted journal.

Respondents: Career Pilots; Part 121 pilots. Qualtrics FedRamp Online Survey.

Frequency: One-time response.

Estimated Average Burden per Response: 10-25 minutes.

Estimated Total Annual Burden: 584 total annual burden hours.

Issued in Oklahoma City, OK, on January 9, 2026.
Tammy Ho,
Psychology Technician, NAS Human Factors Safety Research Laboratory (AAM-520), Aerospace Human Factors Research Division, Civil Aerospace Medical Institute.

[FR Doc. 2026-00485 Filed 1-12-26; 8:45 am]

BILLING CODE 4910-13-P